SECURITIES AND EXCHANGE COMMISSION

Submission for OMB Review; Comment Request; “Tell Us How We're Doing!”

Upon Written Request, Copies Available From: Securities and Exchange Commission, Office of Investor Education and Advocacy, Washington, DC 20549-0213.

SEC File No. 270-406; OMB Control No. 3235-0463.

Notice is hereby given that, pursuant to the Paperwork Reduction Act of 1995 (44 U.S.C. 3501 et seq.), the Securities and Exchange Commission (“Commission”) has submitted to the Office of Management and Budget a request to approve the collection of information discussed below.

The title of the questionnaire is “Tell Us How We're Doing!”

The Commission currently sends the questionnaire to persons who have used the services of the Commission's Office of Investor Education and Advocacy. The questionnaire consists mainly of eight (8) questions concerning the quality of services provided by OIEA. Most of the questions can be answered by checking a box on the questionnaire.

The Commission needs the information to evaluate the quality of services provided by OIEA. Supervisory personnel of OIEA use the information collected in assessing staff performance and for determining what improvements or changes should be made in OIEA operations for services provided to investors.

The respondents to the questionnaire are those investors who request assistance or information from OIEA. For 2007, for example, OIEA sent questionnaires to 2,724 investors, and received 571 responses, or about 21 percent.

The total reporting burden of the questionnaire in 2007 was approximately 142 hours and 45 minutes. This was calculated by multiplying the total number of investors who responded to the questionnaire times how long it is estimated to take to complete the questionnaire (571 respondents × 15 minutes = 142 hours and 45 minutes).

Providing the information on the questionnaire is voluntary and responses are kept confidential.

Members of the public should be aware that an agency may not conduct or sponsor, and a person is not required to respond to, a collection of information unless a currently valid Office of Management and Budget control number is displayed.

General comments regarding the above information should be directed to the following persons: (i) Desk Officer for the Securities and Exchange Commission, Office of Information and Regulatory Affairs, Office of Management and Budget, Room 10102, New Executive Office Building, Washington, DC 20503 or send an e-mail to: Alexander_T._Hunt@omb.eop.gov; and (ii) R. Corey Booth, Director and Chief Information Officer, Securities and Exchange Commission, c/o Shirley Martinson, 6432 General Green Way, Alexandria, VA 22312, or send an e-mail to PRA_mailbox@sec.gov. Comments must be submitted to OMB within 30 days of this notice.

Dated: June 16, 2008.
Florence E. Harmon,
Acting Secretary.

[FR Doc. E8-14081 Filed 6-20-08; 8:45 am]

BILLING CODE 8010-01-P